SURFACE TRANSPORTATION BOARD

[Docket No. FD 36098]

BG & CM Railroad, Inc.—Acquisition and Operation Exemption—Rail Line of Great Northwest Railroad, Inc.

BG & CM Railroad, Inc. (BG&CM), a Class III rail carrier, has filed a verified notice of exemption under 49 CFR 1150.41 to acquire from Great Northwest Railroad, Inc. (GNR), and operate approximately 27.5 miles of rail line (the Line), between milepost 3.5 at or near Konkolville, Idaho, to the end of the Line at milepost 31.0 at or near Jaype, Idaho, in Clearwater County, Idaho.¹

¹ The Line was authorized for abandonment in 2004. See Great Nw. R.R.—Aban. in Clearwater Cty., Idaho., AB 872X (STB served Nov. 1, 2004). However, the abandonment was never consummated due to an unfulfilled historic preservation condition, and the Line remains an active line of railroad.

BG&CM certifies that the projected annual revenues as a result of this transaction will not result in the creation of a Class II or Class I rail carrier and will not exceed $5 million.

BG&CM further certifies that the transaction does not include interchange commitments.

The transaction may be consummated on March 15, 2017, the effective date of the exemption (30 days after the exemption was filed).

If the notice contains false or misleading information, the exemption is void ab initio. Petitions to revoke the exemption under 49 U.S.C. 10502(d) may be filed at any time. The filing of a petition to revoke will not automatically stay the transaction. Petitions for stay must be filed no later than March 8, 2017 (at least 7 days before the exemption becomes effective).

An original and 10 copies of all pleadings, referring to Docket No. FD 36098, must be filed with the Surface Transportation Board, 395 E Street SW., Washington, DC 20423-0001. In addition, one copy of each pleading must be served on Charles H. Montange, 426 NW 162d St., Seattle, WA 98177.

According to BG&CM, this action is categorically excluded from environmental review under 49 CFR 1105.6(c).

Board decisions and notices are available on our Web site at WWW.STB.GOV.

Decided: February 24, 2017.
By the Board, Rachel D. Campbell, Director, Office of Proceedings.
Jeffrey Herzig,
Clearance Clerk.

[FR Doc. 2017-03977 Filed 2-28-17; 8:45 am]

BILLING CODE 4915-01-P